NUCLEAR REGULATORY COMMISSION

[Docket No. 70-3101]

Consideration of an Exemption From Requirements of 10 CFR Part 70 for PermaFix Environmental Services

The U.S. Nuclear Regulatory Commission (NRC or the Commission) is considering issuance of an Order pursuant to section 274f of the Atomic Energy Act that would exempt PermaFix Environmental Services (PermaFix) from certain NRC regulations. PermaFix requested this exemption in a letter dated July 23, 2001. The proposed exemption would allow PermaFix, under specified conditions, to possess waste containing special nuclear material (SNM), in greater mass quantities than specified in 10 CFR part 150, at PermaFix's mixed waste (i.e., waste containing both radioactive and hazardous constituents) treatment facilities located in Oak Ridge and Kingston, Tennessee, and Gainesville, Florida, without obtaining an NRC license pursuant to 10 CFR part 70. NRC issued a similar Order to Envirocare of Utah, Inc. in May of 1999, and is considering issuing a similar Order to Waste Control Specialists, LLC. During the issuance of that Order, the Commission indicated that staff should consider similar requests from others prior to exploring rulemaking in this area (SRM-SECY-98-226).

PerfmaFix is licensed by the Tennessee Department of Environment and Conservation, Division of Radiological Health and the Florida Department of Health, to treat and temporarily store low-level radioactive waste. PermaFix is also licensed by the Tennessee Department of Environment and Conservation and the Florida Department of Environmental Protection to treat hazardous waste. The hazardous waste activities at the site are not subject to the Order currently under consideration.

Prior to the issuance of the Order, NRC will have made findings required by the Atomic Energy Act of 1954, as amended, and NRC's regulations. These findings will be documented in a Safety Evaluation Report and an Environmental Assessment.

For Further Information Contact: Timothy E. Harris, Environmental and Performance Assessment Branch, Division of Waste Management, Office of Nuclear Material Safety and Safeguards, U.S. Nuclear Regulatory Commission, Washington, DC 20555-0001. Telephone: (301) 415-6613. Fax.: (301) 415-5398.

Dated at Rockville, Maryland, this 18th day of September 2001.
For the Nuclear Regulatory Commission.
Thomas H. Essig,
Chief, Environmental and Performance Assessment Branch, Division of Waste Management, Office of Nuclear Material Safety and Safeguards.

[FR Doc. 01-25569 Filed 10-10-01; 8:45 am]

BILLING CODE 7590-01-P